DEPARTMENT OF EDUCATION

[CFDA Number: 84.358A.]

Application Deadline for Fiscal Year 2016; Small, Rural School Achievement Program

AGENCY: Office of Elementary and Secondary Education, Department of Education.

ACTION: Notice.

SUMMARY: Under the Small, Rural School Achievement (SRSA) program, the U.S. Department of Education (Department) awards grants on a formula basis to eligible local educational agencies (LEAs) to address the unique needs of rural school districts. In this notice, we establish the deadline for submission of fiscal year (FY) 2016 SRSA grant applications.

An eligible LEA that has not previously submitted an application for SRSA funds in any prior year must submit an application electronically by the deadline in this notice.

DATES: Application Deadline: May 2, 2016, 4:30:00 p.m., Washington, DC time.

FOR FURTHER INFORMATION CONTACT: David Cantrell, U.S. Department of Education, 400 Maryland Avenue SW., room 3E303, Washington, DC 20202. Telephone: (202) 453-5990 or by email: reap@ed.gov.

If you use a telecommunications device for the deaf or a text telephone, call the Federal Relay Service, toll free, at 1-800-877-8339.

SUPPLEMENTARY INFORMATION:

Under what statutory authority will FY 2016 SRSA awards be made?

The FY 2016 SRSA awards will be made under the statutory authority in title VI, part B, subpart 1 of the Elementary and Secondary Education Act of 1965 (ESEA), as amended by the No Child Left Behind Act of 2001 (Pub. L. 107-110). Recently, the SRSA program was reauthorized under title V, part B, subpart 1 of the ESEA, as amended by the Every Student Succeeds Act (ESSA) (Pub. L. 114-95). However, under the Consolidated Appropriations Act, 2016 (Pub. L. 114-113), changes to the SRSA program under ESSA will not take effect until the 2017-18 school year.

Which LEAs are eligible for an award under the SRSA program?

For FY 2016, an LEA (including a public charter school that is considered an LEA under State law) is eligible for an award under the SRSA program if—

(a) The total number of students in average daily attendance at all of the schools served by the LEA is fewer than 600, or each county in which a school served by the LEA is located has a total population density of fewer than 10 persons per square mile; and

(b)(1) All of the schools served by the LEA are designated with a school locale code of 7 or 8 by the Department's National Center for Education Statistics (NCES); or

(2) The Secretary has determined, based on a demonstration by the LEA and concurrence of the State educational agency, that the LEA is located in an area defined as rural by a governmental agency of the State.

Note: For FY 2016, the school locale codes are the locale codes determined on the basis of the NCES school code methodology in place on the date of enactment of section 6211(b) of the ESEA, as amended by the No Child Left Behind Act of 2001.

Which eligible LEAs must submit an application to receive an FY 2016 SRSA grant award?

Under the regulations in 34 CFR 75.104(a), the Secretary makes a grant only to an eligible party that submits an application. However, given the limited purpose served by the application under the SRSA program, the Secretary considers the application requirement to be met if an LEA submitted an SRSA application for any prior year. Unless an LEA advises the Secretary by the application deadline that it is withdrawing its application, the Secretary deems any previously submitted application to remain in effect for FY 2016. Accordingly, an eligible LEA must submit an FY 2016 application only if that LEA has not submitted an application for SRSA funds in any prior year.

We intend to provide, by April 1, 2016, a list of LEAs eligible for FY 2016 funds on the Department's Web site at http://www2.ed.gov/programs/reapsrsa/eligibility.html. This list will indicate which eligible LEAs have already met the application requirement, and which eligible LEAs must submit an application to receive an FY 2016 SRSA grant award. All eligible LEAs that need to submit an application will be highlighted in yellow on the SRSA eligibility spreadsheets.

Electronic Submission of Applications

An eligible LEA that is required to submit an application to receive FY 2016 SRSA funds must submit an electronic application by May 2, 2016, 4:30:00 p.m., Washington, DC time. Any application received from an eligible LEA after this deadline will be funded only to the extent that funds are available after the Department awards grants to other eligible LEAs under the program.

Submission of an electronic application involves the use of the Department's G5 System. Prospective applicants can access the electronic application for the SRSA Program at: www.g5.gov. When applicants access this site, they will receive specific instructions regarding the information to include in the SRSA application.

Accessible Format

Individuals with disabilities can obtain this document and a copy of the application package in an accessible format (e.g., braille, large print, audiotape, or compact disc) on request to the program contact person listed under FOR FURTHER INFORMATION CONTACT.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Program Authority: Sections 6211-6213 of the ESEA, as amended by the No Child Left Behind Act of 2001.

Dated: February 2, 2016.
Ann Whalen,
Senior Advisor to the Secretary Delegated the Duties of Assistant Secretary for Elementary and Secondary Education.

[FR Doc. 2016-02292 Filed 2-4-16; 8:45 am]

BILLING CODE 4000-01-P